DEPARTMENT OF THE INTERIOR

National Park Service

[NPS-WASO-OIA-DTS-35126; PPWODIREI0-PIN00IO15.XI0000-234P104215]

Submission of U.S. Nomination to the World Heritage List

AGENCY: National Park Service, Interior.

ACTION: Notice.

SUMMARY: The Department of the Interior has submitted a nomination to the World Heritage List for “Moravian Church Settlements,” jointly with the governments of Germany and the United Kingdom. It consists of the main part of the Historic Moravian Bethlehem National Historic Landmark District in Bethlehem, Pennsylvania, as well as Moravian settlements in Herrnhut, Germany, and Gracehill in the United Kingdom. This is the third notice required by the Department of the Interior's World Heritage Program regulations.

ADDRESSES: To request paper copies of documents discussed in this notice, contact April Brooks, Office of International Affairs, National Park Service, 1849 C St. NW, Room 2415, Washington, DC 20240 (202) 354-1808, or sending electronic mail (Email) to: april_brooks@nps.gov.

FOR FURTHER INFORMATION CONTACT: Stephen Morris, Chief, Office of International Affairs at (202) 354-1803 or Jonathan Putnam, International Cooperation Specialist, at (202) 354-1809. Complete information about U.S. participation in the World Heritage Program and the process used to develop the U.S. World Heritage Tentative List is posted on the National Park Service, Office of International Affairs website at: https://www.nps.gov/subjects/internationalcooperation/worldheritage.htm.

SUPPLEMENTARY INFORMATION: This constitutes the official notice of the decision by the United States Department of the Interior to submit a nomination to the World Heritage List for “Moravian Church Settlements,” as enumerated in the Summary above, and serves as the Third Notice referred to in 36 CFR 73.7(j) of the World Heritage Program regulations (36 CFR part 73).

The nomination was submitted through the U.S. Department of State to the World Heritage Centre of the United Nations Educational, Scientific and Cultural Organization (UNESCO) for consideration by the World Heritage Committee, which will likely occur at the Committee's 45th annual session in mid-2024.

This property has been selected from the U.S. World Heritage Tentative List, which comprises properties that appear to qualify for World Heritage status, and which may be considered for nomination by the United States to the World Heritage List, as required by the World Heritage Committee's Operational Guidelines.

The U.S. World Heritage Tentative List appeared in a Federal Register notice on January 11, 2021 (86 FR 1999), as required by 36 CFR 73.7(c)) with a request for public comment on possible nominations from the 19 sites on the Tentative List. A summary of the comments received, the Department of the Interior's responses to them and the Department's decision to request preparation of this nomination appeared in a subsequent Federal Register notice published on February 1, 2022 (87 FR 5498-5499). These are the First and Second Notices required by 36 CFR 73.7(c) and (f).

In making the decision to submit this U.S. World Heritage nomination, pursuant to 36 CFR 73.7(h) and (i), the Department's Assistant Secretary for Fish and Wildlife and Parks evaluated the draft nomination and the recommendations of the Federal Interagency Panel for World Heritage. She determined that the property meets the prerequisites for nomination by the United States to the World Heritage List that are detailed in 36 CFR part 73. The properties are nationally significant, being part of a National Historic Landmark district designated by the Department of the Interior. The owners of the properties have concurred in writing with the nomination, and each property is well protected legally and functionally as documented in the nomination. It appears to meet two of the World Heritage criteria for cultural properties.

“Moravian Church Settlements” are nominated under World Heritage cultural criteria (iii) and (iv), as provided in 36 CFR 73.9(b)(1), as a group, or “series,” that collectively appears to justify criterion (iii) as an exceptional testimony to the Moravian Church's distinct religious and social ideals which are expressed in the towns' layouts, architecture, and craftsmanship, as well as the fact that numerous buildings are still used either for their original function or the continuation of Moravian Church activities and traditions. The series also justifies criterion (iv) as an outstanding example of intentional religious town planning within the Protestant tradition; each settlement bears witness to the Moravian Church vision of a unified and coherent urban design, inspired by ancient and biblical concepts of the `ideal city' and anticipating Enlightenment ideals of equality and social improvement that became a reality only much later in many places. The settlements, both individually and as a group, also meet the World Heritage requirements for integrity and authenticity.

The World Heritage List is an international list of cultural and natural properties nominated by the signatories to the World Heritage Convention (1972). The World Heritage Committee, composed of representatives of 21 nations elected as the governing body of the World Heritage Convention, makes the final decisions on which nominations to accept on the World Heritage List at its annual meeting each summer. Although the United States is not a member of UNESCO, it continues to participate in the World Heritage Convention, which is an independent treaty. There are 1,154 World Heritage sites in 167 of the 194 signatory countries. The United States has 24 sites inscribed on the World Heritage List.

U.S. participation and the role of the Department of the Interior are authorized by title IV of the National Historic Preservation Act Amendments of 1980, Public Law 96-515, 94 Stat. 2987, 3000, codified as amended at 54 U.S.C. 307101, and conducted by the Department through the National Park Service in accordance with the regulations at 36 CFR part 73 which implement the Convention pursuant to the 1980 Amendments.

Neither inclusion in the Tentative List nor inscription as a World Heritage Site imposes legal restrictions on owners or neighbors of sites, nor do they give the United Nations any management authority or ownership rights in U.S. World Heritage Sites, which continue to be subject only to U.S. federal and local laws, as applicable.

Authority: 54 U.S.C. 307101; 36 CFR part 73.

Shannon A. Estenoz,
Assistant Secretary for Fish and Wildlife and Parks.

[FR Doc. 2023-03327 Filed 2-16-23; 8:45 am]

BILLING CODE 4312-52-P